DEPARTMENT OF ENERGY

Federal Energy Regulatory Commission

[Project No. 2016-044]

City of Tacoma; Notice of Extension of Time To File Motions To Intervene and Protests, and Comments, Final Terms and Conditions, Recommendations and Prescriptions

July 12, 2000.

By letter dated July 12, 2000, Martha Bean, mediator working with the City of Tacoma and other parties on the relicensing of the Cowlitz River Project, filed on behalf of federal, state, and local agencies and the City of Tacoma, a request for an extension of time to file protests and motions to intervene, and comments, recommendations, terms and conditions, and prescriptions, in the above-docketed project. Upon consideration, notice is hereby given that an extension of time for the filing of protests and motions to intervene, and final comments, recommendations, terms and conditions, and prescriptions is granted to and including August 15, 2000.

Linwood A. Watson, Jr.,
Acting Secretary.

[FR Doc. 00-18066 Filed 7-17-00; 8:45 am]

BILLING CODE 6717-01-M